DEPARTMENT OF ENERGY

Federal Energy Regulatory Commission

[Project No. 184-065 California]

El Dorado Irrigation District; Notice of Public Meeting

August 15, 2002.

The Federal Energy Regulatory Commission (Commission) is reviewing the application for a new license for the El Dorado Project (FERC No. 184), filed on February 22, 2000. The El Dorado Project, licensed to the El Dorado Irrigation District (EID), is located on the South Fork American River, in El Dorado, Alpine, and Amador Counties, California. The project occupies lands of the Eldorado National Forest.

The EID, several state and federal agencies, and several non-governmental agencies are working collaboratively with a facilitator to resolve certain issues relevant to this proceeding. This meeting is a part of that collaborative process.

On Friday, August 30, 2002, the Aquatics/Hydrology workgroup will meet from 9:00 a.m. until 4:00 p.m. The meeting will focus on hydrologic modeling of different operational alternatives for the project. We invite the participation of all interested governmental agencies, non-governmental organizations, and the general public in this meeting.

The meeting will be held at the Rancho Cordova Holiday Inn, located at 11131 Folsom Blvd.,Rancho Cordova, California.

For further information, please contact Elizabeth Molloy at (202) 502-8771 or John Mudre at (202) 502-8902.

Linwood A. Watson, Jr.,
Deputy Secretary.

[FR Doc. 02-21273 Filed 8-20-02; 8:45 am]

BILLING CODE 6717-01-P